DEPARTMENT OF COMMERCE

National Oceanic and Atmospheric Administration

[I.D. 020402A]

Endangered Species; Permits

AGENCY: National Marine Fisheries Service (NMFS), National Oceanic and Atmospheric Administration (NOAA), Commerce.

ACTION: Issuance of permit.

SUMMARY: Notice is hereby given of the following actions regarding permits for takes of endangered and threatened species for the purposes of scientific research and/or enhancement under the Endangered Species Act (ESA): NMFS has issued permit 1303 to Dr. R. Michael Laurs, of Southwest Fisheries Science Center (SWFSC) (1303).

ADDRESSES: The applications and related documents are available for review in the indicated office, by appointment:

Permits, Conservation, and Education Division, F/PR1, 1315 East West Highway, Silver Spring, MD 20910 (phone:301-713-2289, fax: 301-713-0376).

FOR FURTHER INFORMATION CONTACT: Lillian Becker, Silver Spring, MD (phone: 301-713-2319, fax: 301-713-0376, e-mail: Lillian.Becker@noaa.gov)

SUPPLEMENTARY INFORMATION:

Electronic Access

To view the final version of Permit 1303 go to http://www.nmfs.noaa.gov/prot_res/PR1/Permits/pr1permits_review.html.

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under section 10(a)(1)(A) of the ESA. Authority to take listed species is subject to conditions set forth in the permits. Permits and modifications are issued in accordance with and are subject to the ESA and NMFS regulations governing listed fish and wildlife permits (50 CFR parts 222-226).

Sea Turtles: Species Covered in This Notice

The following species are covered in this notice:

Threatened and endangered green turtle (Chelonia mydas)

Endangered leatherback turtle (Dermochelys coriacea)

Threatened loggerhead turtle (Caretta caretta)

Threatened and endangered Olive ridley turtle (Lepidochelys olivacea)

Permit Issued

Notice was published on May 10, 2001 (66 FR 23882) that Dr. R. Michael Laurs, of Southwest Fisheries Science Center applied for a scientific research permit (1303). The applicant requested authorization to allow take of listed sea turtles while conducting experiments on methods for reducing sea turtle take by longline fisheries in the Pacific Ocean and to allow import of living, deeply hooked sea turtles for treatment and rehabilitation. Permit 1303 expires December 31, 2005.

Dated: February 5, 2002.
David Cottingham,
Deputy Director, Office of Protected Resources, National Marine Fisheries Service.

[FR Doc. 02-3270 Filed 2-8-02; 8:45 am]

BILLING CODE 3510-22-S